DEPARTMENT OF COMMERCE

National Oceanic and Atmospheric Administration

50 CFR Part 622

[Docket No. 131113952-6999-02]

RIN 0648-BD78

Fisheries of the Caribbean, Gulf of Mexico, and South Atlantic; Snapper-Grouper Fishery Off the Southern Atlantic States; Regulatory Amendment 16

AGENCY: National Marine Fisheries Service (NMFS), National Oceanic and Atmospheric Administration (NOAA), Commerce.

ACTION: Stay of final rule.

SUMMARY: In accordance with the memorandum of January 20, 2017, from the Assistant to the President and Chief of Staff, entitled “Regulatory Freeze Pending Review,” published in the Federal Register on January 24, 2017 (the Memorandum), this action stays the final rule NMFS published on December 29, 2016, in order to delay its effective date.

DATES: Effective January 31, 2017, the final rule amending 50 CFR 622.189(g) that published on December 29, 2016, at 81 FR 95893, is stayed until March 21, 2017.

SUPPLEMENTARY INFORMATION: NMFS issues regulations to implement Regulatory Amendment 16 to the Fishery Management Plan for the Snapper-Grouper Fishery of the South Atlantic Region (FMP), as prepared and submitted by the South Atlantic Fishery Management Council (Council). This final rule revises the current seasonal prohibition on the use of black sea bass pot gear in the South Atlantic and adds an additional gear marking requirement for black sea bass pot gear. The purpose of this final rule is to reduce the adverse socioeconomic impacts from the current seasonal black sea bass pot gear prohibition while continuing to protect Endangered Species Act (ESA) listed North Atlantic right whales (NARW) in the South Atlantic. This final rule also helps to better identify black sea bass pot gear in the South Atlantic.

On January 20, 2017, the White House issued a memo instructing Federal agencies to temporarily postpone the effective date for 60 days after January 20, 2017, of any regulations or guidance documents that have published in the Federal Register but not yet taken effect, for the purpose of “reviewing questions of fact, law, and policy they raise.” Because its effective date has already passed, we are enacting this stay of the rule published on December 29, 2016, at 81 FR 95893 (see DATES above) until March 2017, except for the amendment to § 622.183(b)(6) that became effective on December 29, 2016.

List of Subjects in 50 CFR Part 622

Annual catch limits, Black Sea Bass, Fisheries, Fishing, South Atlantic.

Dated: January 26, 2017.
Alan D. Risenhoover,
Acting Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

§ 622.189 [Amended]

2. In § 622.189, paragraph (g) is stayed until March 21, 2017.

[FR Doc. 2017-02042 Filed 1-30-17; 8:45 am]

BILLING CODE 3510-22-P